DEPARTMENT OF ENERGY

Federal Energy Regulatory Commission

[Project No. 3511-024]

Lower Saranac Hydro, LLC;

Notice of Waiver Period for Water Quality Certification Application

On July 2, 2021, Lower Saranac Hydro, LLC filed with the Federal Energy Regulatory Commission a copy of its application for a Clean Water Act section 401(a)(1) water quality certification submitted to the New York State Department of Environmental Conservation (New York DEC), in conjunction with the above captioned project. Pursuant to 40 CFR 121.6, we hereby notify the New York DEC of the following:

Date of Receipt of the Certification Request: July 2, 2021.

Reasonable Period of Time to Act on the Certification Request: One year.

Date Waiver Occurs for Failure to Act: July 2, 2022.

If New York DEC fails or refuses to act on the water quality certification request by the above waiver date, then the agency's certifying authority is deemed waived pursuant to section 401(a)(1) of the Clean Water Act, 33 U.S.C. 1341(a)(1).

Dated: July 22, 2021.
Debbie-Anne A. Reese,
Deputy Secretary.

[FR Doc. 2021-16064 Filed 7-27-21; 8:45 am]

BILLING CODE 6717-01-P